DEPARTMENT OF AGRICULTURE

Forest Service

Notice of Resource Advisory Committee Meeting

AGENCY: North Central Idaho Resource Advisory Committee, Grangeville, Idaho, USDA, Forest Service.

ACTION: Notice of meeting.

SUMMARY: Pursuant to the authorities in the Federal Advisory Committee Act (Pub. L. 92-463) and under the Secure Rural Schools and Community Self-Determination Act of 2000 (Pub. L. 110-343) the Nez Perce and Clearwater National Forests' North Central Idaho Resource Advisory Committee will meet Wednesday, April 22, 2009, in Lewiston, Idaho for a business meeting. The meeting is open to the public.

SUPPLEMENTARY INFORMATION: The business meeting on April 22nd will be held at the Jack O'Connor Center at Hell's Gate State Park (5100 Hells Gate Road) in Lewiston, Idaho, beginning at 10 a.m. (PST). Agenda topic will primarily be discussion of potential projects. A public forum will begin at 3:15 p.m. (PST).

FOR FURTHER INFORMATION CONTACT: Laura A. Smith, Public Affairs Officer and Designated Federal Officer, at (208) 983-5143.

Dated: March 26, 2009.
Thomas K. Reilly,
Forest Supervisor.

[FR Doc. E9-7381 Filed 4-1-09; 8:45 am]

BILLING CODE 3410-11-P